DEPARTMENT OF TRANSPORTATION

Federal Railroad Administration

[Docket No. FRA-2024-0026]

Proposed Agency Information Collection Activities; Comment Request

AGENCY: Federal Railroad Administration (FRA), Department of Transportation (DOT).

ACTION: Notice of information collection; request for comment.

SUMMARY: Under the Paperwork Reduction Act of 1995 (PRA) and its implementing regulations, FRA seeks approval of the Information Collection Request (ICR) summarized below. Before submitting this ICR to the Office of Management and Budget (OMB) for approval, FRA is soliciting public comment on specific aspects of the activities identified in the ICR.

DATES: Interested persons are invited to submit comments on or before September 30, 2024.

ADDRESSES: Written comments and recommendations for the proposed ICR should be submitted on regulations.gov to the docket, Docket No. FRA-2024-0026. All comments received will be posted without change to the docket, including any personal information provided. Please refer to the assigned OMB control number (2130-New) in any correspondence submitted. FRA will summarize comments received in a subsequent 30-day notice and include them in its information collection submission to OMB.

FOR FURTHER INFORMATION CONTACT: Ms. Arlette Mussington, Information Collection Clearance Officer, at email: arlette.mussington@dot.gov or telephone: (571) 609-1285 or Ms. Joanne Swafford, Information Collection Clearance Officer, at email: joanne.swafford@dot.gov or telephone: (757) 897-9908.

SUPPLEMENTARY INFORMATION: The PRA, 44 U.S.C. 3501-3520, and its implementing regulations, 5 CFR part 1320, require Federal agencies to provide 60-days' notice to the public to allow comment on information collection activities before seeking OMB approval of the activities. See 44 U.S.C. 3506, 3507; 5 CFR 1320.8 through 1320.12. Specifically, FRA invites interested parties to comment on the following ICR regarding: (1) whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal regulations mandate. In summary, comments received will advance three objectives: (1) reduce reporting burdens; (2) organize information collection requirements in a “user-friendly” format to improve the use of such information; and (3) accurately assess the resources expended to retrieve and produce information requested. See 44 U.S.C. 3501.

The summary below describes the ICR that FRA will submit for OMB clearance as the PRA requires:

Title: Uniform Report of Small Business (SB) Commitments/Awards and Payments.

OMB Control Number: 2130-New.

Abstract: The Disadvantaged Business Enterprise (DBE) program is statutorily mandated and intended to assist small businesses owned and controlled by socially and economically disadvantaged individuals compete fairly in the Department's transportation funding programs for certain highway, transit, and aviation programs. The DBE program is implemented by recipients of DOT financial assistance. The DOT DBE does not include rail assistance programs and FRA does not have a mandated DBE program. Rather, FRA issues and manages rail assistance programs in compliance with the DOT regulations for implementing Title VI of the Civil Rights Act of 1964 found at 49 CFR part 21 and the Uniform Administrative Requirements, Cost Principles, and Audit Requirements for Federal Awards found at 2 CFR part 200. Specifically, 2 CFR 200.321 (a) through (b)(6) provides affirmative steps a non-Federal entity must take to assure that minority businesses, women's business enterprises, and labor surplus area firms are used when possible.

In 2015, Congress instructed the Secretary of Transportation to conduct a nationwide disparity and availability study on the availability and use of small businesses owned and controlled by socially and economically disadvantaged individuals and veteran-owned small businesses in publicly funded intercity rail passenger transportation projects.

The report for the study was provided to Congress in 2022. The report noted a gap in data available for analysis to determine if there is any disparity in rail transportation grant awards. To address the data gap identified in the report, FRA is proposing to add new form, FRA F 6180.281 titled, Small Business (SB) Commitments/Awards and Payments. The proposed data collection will address this gap and aid future considerations of the application of the DBE program.

The purpose of FRA F 6180.281 is to collect data from grant recipients to determine the amount of dollars from FRA grants and contracts that flow to small, women-owned and Disadvantaged Business Enterprises (DBE). This would identify all prime contractors, sub-contractors, consultants, and vendors that FRA grant recipients worked with and on which they spent grant funds. Additionally, the proposed new form, FRA F 6180.281 “SB Commitments/Awards and Payments” would be used by FRA to carry out its oversight responsibilities of non-Federal entities receiving grant funds.

This collection of information aligns with DOT's Strategic Goal of Equity as it supports establishing economic equity for small businesses owned by disadvantaged individuals and promoting development opportunities.

Type of Request: Approval of a new collection of information.

Affected Public: Generally, includes States and local governments and railroads.

Form(s): FRA F 6180.281.

Respondent Universe: 140 grant recipients.

Frequency of Submission: Annually.

¹ The dollar equivalent cost is derived from the May 2022 Department of Labor, Bureau of Labor Statistics (BLS), using the median hourly wage rate for a Management Analyst 13-1111 of $45.81.

Reporting Burden
Form name | Form No. | Total annual responses | Average time per response | Total annual burden hours | Wage rate | Total cost equivalent in U.S. dollars
|  | (A) | (B) | (C = A * B) | (E) ¹ | (D = C * E)
| FRA F 281 | 140 | 357 hours | 49,980 | $45.81 | $2,289,584
Total | 140 | 140 responses | N/A | 49,980 | N/A | 2,289,584

Total Estimated Annual Responses: 140.

Total Estimated Annual Burden: 49,980 hours.

Total Estimated Annual Burden Hour Dollar Cost Equivalent: $2,289,584.

FRA informs all interested parties that it may not conduct or sponsor, and a respondent is not required to respond to, a collection of information that does not display a currently valid OMB control number.

Authority: 44 U.S.C. 3501-3520.

Christopher S. Van Nostrand,
Deputy Chief Counsel.

[FR Doc. 2024-16732 Filed 7-29-24; 8:45 am]

BILLING CODE 4910-06-P